DEPARTMENT OF ENERGY

Federal Energy Regulatory Commission

[Docket No. CP25-537-000]

Texas Eastern Transmission, LP; Notice of Schedule for the Preparation of an Environmental Assessment for the Donaldson Compressor Station Abandonment Project

On August 13, 2025, Texas Eastern LP (Texas Eastern) filed an application in Docket No. CP25-537-000 requesting Authorization pursuant to Section (b) of the Natural Gas Act (NGA) and Part 157 of the Commission's regulations to abandon certain natural gas pipeline facilities. The proposed project is known as the Donaldson Compressor Station Abandonment Project (Project) and would consist of abandoning facilities at the Donaldson Compressor Station (CS) located in Hot Spring County, Arkansas. On October 1, 2025, Texas Eastern filed a supplement to the project scope clarifying to leave in-service one existing transformer at the Donaldson CS to maintain 3-phase power to the facility which provides power to ancillary facilities for lights, a water pump, and cathodic protection rectifier.

On August 27, 2025, the Commission issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ For tracking purposes under the National Environmental Policy Act, the unique identification number for documents relating to this environmental review is EAXX-019-20-000-1762338139.

Schedule for Environmental Review

Issuance of EA—February 6, 2026

90-day Federal Authorization Decision Deadline ²—May 7, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The proposed project would enable Texas Eastern to abandon the Donaldson CS, located in Hot Spring County, Arkansas. According to Texas Eastern, the abandonment is needed because the facility is no longer required to meet firm service obligations and continuing to maintain it would require unjustified capital investment and increased maintenance expenditures.

The Project would consist of the following:

(1) abandoning by removal approximately 10 feet of aboveground 26-inch-diameter suction piping and approximately 10 feet of aboveground 18-inch-diameter discharge piping;

(2) abandoning in-place four 2,000-horsepower compressor units, all aboveground structures and equipment (existing receiver/launcher will remain in-service), various transfer lines and piping, auxiliary building, waste oil storage tank, glycol tank, and coolant water tank;

(3) draining and disposing of fluid from four electrical transformers on site, abandoning the electrical transformers on site, and abandoning the electrical units in-place; and

(4) leaving in-service one existing transformer to maintain 3-phase power to the facility which provides power to ancillary facilities for lights, a water pump, and cathodic protection rectifier.

Background

On September 18, 2025, the Commission issued a Notice of Scoping Period Requesting Comments on Environmental Issues for the Proposed Donaldson Compressor Station Abandonment Project (Notice of Scoping). The Notice of Scoping was sent to affected landowners; federal, state, and local government agencies; elected officials; environmental and public interest groups; Native American tribes; other interested parties; and local libraries and newspapers.

In response to the Notice of Scoping, the Commission received one comment letter from U.S. Environmental Protection Agency requesting that the EA provide a detailed discussion on water quality, dredge and fill impacts to waters of the United States, Clean Water Act Section 303(d), biological resources, wildlife habitat, air quality, hazardous materials and waste, solid waste, coordination with Tribal Governments, and the National Historic Preservation Act and Executive Order 13007.

All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202)502-6595 or OPP@ferc.gov.

Additional information about the Project is available from the FERC website (www.ferc.gov). Using the “eLibrary” link, select “General Search” from the eLibrary menu, enter the selected date range and “Docket Number” excluding the last three digits (i.e., CP25-537), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: December 10, 2025.
Debbie-Anne A. Reese,
Secretary.

[FR Doc. 2025-22783 Filed 12-12-25; 8:45 am]

BILLING CODE 6717-01-P